DEPARTMENT OF HOMELAND SECURITY

Federal Emergency Management Agency

Federal Radiological Preparedness Coordinating Committee; Notice of Public Meeting

AGENCY: Federal Emergency Management Agency, DHS.

ACTION: Notice of public meeting.

SUMMARY: The Federal Radiological Preparedness Coordinating Committee (FRPCC) is holding a public meeting on September 16, 2009 in Washington, DC.

DATES: The meeting will take place on September 16, 2009. The session open to the public will be from 9 a.m. to 11 a.m. Send written statements and requests to make oral statements to the contact person listed below by close of business September 7, 2009.

ADDRESSES: The meeting will be held in the Large First Floor conference room in the North building of the Technology World Building Conference Facility located at 800 K St. NW., Washington, DC 20024.

FOR FURTHER INFORMATION CONTACT: Timothy Greten, FRPCC Executive Secretary, DHS/FEMA, 1800 South Bell Street—CC847, Mail Stop 3025, Arlington, VA 20598-3025; telephone (202) 646-3907; fax (703) 305-0837; or e-mail timothy.greten@dhs.gov.

SUPPLEMENTARY INFORMATION: The role and functions of the Federal Radiological Preparedness Coordinating Committee (FRPCC) are described in 44 CFR parts 351.10(a) and 351.11(a). The FRPCC is holding a public meeting on September 16, 2009, from 9 a.m. to 11 a.m., in the Large First Floor conference room in the North building of the Technology World Building Conference Facility located at 800 K St. NW., Washington, DC 20024. Please note that the meeting may close early. This meeting is open to the public. Public meeting participants must pre-register to be admitted to the meeting. To pre-register, please provide your name and telephone number by close of business on September 7, 2009, to the individual listed in the FOR FURTHER INFORMATION CONTACT section above.

The tentative agenda for the FRPCC meeting includes: (1) Introductions, (2) reports from FRPCC Subcommittees, (3) old business and new business, and (4) business from the floor. The FRPCC Chair shall conduct the meeting in a way that will facilitate the orderly conduct of business. Reasonable provisions will be made, if time permits, for oral statements from the public of not more than five minutes in length. Any member of the public who wishes to make an oral statement at the meeting should send a written request for time by close of business on September 7, 2009, to the individual listed in the FOR FURTHER INFORMATION CONTACT section above. Any member of the public who wishes to file a written statement with the FRPCC should provide the statement by close of business on September 7, 2009, to the individual listed in the FOR FURTHER INFORMATION CONTACT section above.

Information on Services for Individuals With Disabilities

For information on facilities or services for individuals with disabilities or to request special assistance at the meeting, please write or call the individual listed in the FOR FURTHER INFORMATION CONTACT section above as soon as possible.

Authority: 44 CFR 351.10(a) and 351.11(a).

Dated: July 27, 2009.
James R. Kish,
Director, Technological Hazards Division, Chair, Federal Radiological Preparedness Coordinating Committee, National Preparedness Directorate, Department of Homeland Security, Federal Emergency Management Agency.

[FR Doc. E9-18648 Filed 8-4-09; 8:45 am]

BILLING CODE 9110-21-P